DEPARTMENT OF LABOR

Employment and Training Administration

[NAFTA-3578]

Court Metal Finishing, Inc., Flint, MI; Notice of Affirmative Determination Regarding Application for Reconsideration

By letter of February 2, 2000, petitioners request administrative reconsideration of the Department of Labor's Notice of Negative Determination Regarding Eligibility to Apply for NAFTA-Transitional Adjustment Assistance (NAFTA-3578) for workers or the subject firm. The denial notice was signed on January 6, 2000, and published in the Federal Register on January 14, 2000 (65 FR 2433).

The petitioners present information regarding customer imports from Mexico of articles like or directly competitive with those produced at the workers' firm.

Conclusion

After careful review of the application, I conclude that the claim is of sufficient weight to justify reconsideration of the Department of Labor's prior decision. The application is, therefore, granted.

Signed at Washington, D.C. this 31st day of March 2000.
Grant D. Beale,
Program Manager, Division of Trade Adjustment Assistance.

[FR Doc. 00-8922 Filed 4-10-00; 8:45 am]

BILLING CODE 4510-30-M